DEPARTMENT OF ENERGY

Federal Energy Regulatory Commission

Combined Notice of Filings #1

January 7, 2010.

Take notice that the Commission received the following electric corporate filings:

Docket Numbers: EC10-33-000.

Applicants: CPV Keenan II Renewable Energy Company.

Description: CPV Renewable Energy Co., LLC et al. submits joint application for authorization under Section 203 of the Federal Power Act, etc.

Filed Date: 01/05/2010.

Accession Number: 20100105-4002.

Comment Date: 5 p.m. Eastern Time on Tuesday, January 26, 2010.

Docket Numbers: EC10-34-000.

Applicants: Northbrook New York, LLC, Fort Chicago Holdings U.S. Inc.

Description: Application for Authorization for Disposition of Jurisdictional Facilities and request for expedited and privileged treatment of Exhibit 1 re Northbrook New York, LLC et al.

Filed Date: 01/05/2010.

Accession Number: 20100106-0220.

Comment Date: 5 p.m. Eastern Time on Tuesday, January 26, 2010.

Take notice that the Commission received the following electric rate filings:

Docket Numbers: ER03-762-014.

Applicants: Alliant Energy Corporate Services, Inc.

Description: Alliant Energy Corporate Services, Inc. Notice of Change in Status.

Filed Date: 01/06/2010.

Accession Number: 20100106-5088.

Comment Date: 5 p.m. Eastern Time on Wednesday, January 27, 2010.

Docket Numbers: ER10-268-001.

Applicants: PJM Interconnection, L.L.C.

Description: PJM Interconnection, LLC submits amendments to Schedule 12 Appendix of their Open Access Transmission Tariff to incorporate cost responsibility assignments, etc.

Filed Date: 12/30/2009.

Accession Number: 20100104-0060.

Comment Date: 5 p.m. Eastern Time on Monday, February 1, 2010.

Docket Numbers: ER10-406-000.

Applicants: PJM Interconnection, L.L.C.

Description: PJM Interconnection, LLC submits for filing executed interconnection service agreements among PJM Interconnection, LLC et al.

Filed Date: 12/10/2009.

Accession Number: 20091211-0054.

Comment Date: 5 p.m. Eastern Time on Thursday, January 14, 2010.

Docket Numbers: ER10-417-001.

Applicants: PJM Interconnection, LLC.

Description: PJM Interconnection, LLC submits Notices of Cancellation of Interconnection Service Agreements submitted in Attachments C, F, and Q with Virginia Electric and Power Co.

Filed Date: 12/28/2009.

Accession Number: 20091229-0127.

Comment Date: 5 p.m. Eastern Time on Tuesday, January 19, 2010.

Docket Numbers: ER10-476-000.

Applicants: Southern California Edison Company.

Description: Southern California Edison Company submits a revised rate sheet reflecting the cancellation of the Interconnection Facilities Agreement with PPM Energy, Inc, FERC Electric Tariff, Second Revised Volume 6, Service Agreement 36.

Filed Date: 12/23/2009.

Accession Number: 20091224-0086.

Comment Date: 5 p.m. Eastern Time on Wednesday, January 13, 2010.

Take notice that the Commission received the following electric securities filings:

Docket Numbers: ES10-16-001.

Applicants: Westar Energy, Inc.

Description: Amended Section 204 Application of Westar Energy, Inc.

Filed Date: 01/07/2010.

Accession Number: 20100107-5014.

Comment Date: 5 p.m. Eastern Time on Thursday, January 28, 2010.

Take notice that the Commission received the following open access transmission tariff filings:

Docket Numbers: OA10-3-000.

Applicants: Crystal Lake Wind II, LLC.

Description: Crystal Lake Wind II, LLC Petition for Waiver of Commission Rules.

Filed Date: 01/05/2010.

Accession Number: 20100105-5086.

Comment Date: 5 p.m. Eastern Time on Tuesday, January 26, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-634 Filed 1-14-10; 8:45 am]

BILLING CODE 6717-01-P